DEPARTMENT OF THE INTERIOR

Bureau of Land Management

[NMNM 103685]

Notice of Proposed Withdrawal and Opportunity for Public Meeting; New Mexico

AGENCY: Bureau of Land Management (BLM), Interior.

ACTION: Notice.

SUMMARY: The United States Forest Service has filed an application to withdraw approximately 851.72 acres of National Forest System lands for protection of the Langmuir Principal Research Site located on the Magdalena Ranger District on the Cibola National Forest. This notice segregates the land for up to 2 years from location and entry under the United States mining laws. The land will remain open to all other uses which may be made of National Forest System lands.

DATES: Comments and requests for meeting should be received on or before October 22, 2001.

ADDRESSES: Comments and meeting requests should be sent to Forest Supervisor, Cibola National Forest, 2113 Osuna Road NE., Suite A, Albuquerque, NM 87113.

FOR FURTHER INFORMATION CONTACT: Sue McHenry, Cibola National Forest, Recreation and Lands Staff, 2113 Osuna Road NE, Suite A, Albuquerque, NM 87113.

SUPPLEMENTARY INFORMATION: On April 12, 2001, the Forest Service filed an application to withdraw the following described National Forest System land from location and entry under the United States mining laws, subject to valid existing rights:

New Mexico Principal Meridian

Cibola National Forest

T. 4 S., R. 3 W.,

Sec. 5, lot 2, and W½SW¼;

Sec. 6, lots 5 and 6, SE¼NW¼, E½SW¼, and SE¼;

Sec. 7, NE¼, E½NW¼, and N½SE¼;

Sec. 8, W½NW¼ and NW¼SW¼.

The area described contains approximately 851.72 acres in Socorro County.

For a period of 90 days from the date of publication of this notice, all persons who wish to submit comments, suggestions, or objections in connection with the proposed withdrawal may present their views in writing to the Forest Supervisor of the Cibola National Forest.

Notice is hereby given that an opportunity for a public meeting is afforded in connection with the proposed withdrawal. All interested persons who desire a public meeting for the purpose of being heard on the proposed withdrawal must submit a written request to the Forest Supervisor of the Cibola National Forest within 90 days from the date of publication of this notice. Upon determination by the authorized officer that a public meeting will be held, a notice of time and place will be published in the Federal Register at least 30 days before the scheduled date of the meeting.

The application will be processed in accordance with the regulations set forth in 43 CFR 2300. For a period of 2 years from the date of publication of this notice in the Federal Register, the land will be segregated as specified above unless the application is denied or canceled or the withdrawal is approved prior to that date. The temporary uses which will be permitted during this segregative period are all land uses permitted by the Forest Service under existing laws and regulations including, but not limited to, construction and operation of the research site.

Dated: May 29, 2001.
Kate Padilla,
Field Manager.

[FR Doc. 01-18266 Filed 7-20-01; 8:45 am]

BILLING CODE 3410-11-P